DEPARTMENT OF THE INTERIOR

National Park Service

[NPS-WASO-NAGPRA-NPS0039363; PPWOCRADN0-PCU00RP14.R50000]

Notice of Intended Disposition: U.S. Department of Agriculture, Forest Service, Prescott National Forest, Chino Valley, AZ

AGENCY: National Park Service, Interior.

ACTION: Notice.

SUMMARY: In accordance with the Native American Graves Protection and Repatriation Act (NAGPRA), the U.S. Department of Agriculture, Forest Service, Prescott National Forest (PNF) intends to carry out the disposition of human remains removed from Federal or Tribal lands to the lineal descendants, Indian Tribe, or Native Hawaiian organization with priority for disposition in this notice.

DATES: Disposition of the human remains in this notice may occur on or after February 18, 2025. If no claim for disposition is received by January 20, 2026, the human remains in this notice will become unclaimed human remains.

ADDRESSES: Sarah Clawson, Forest Supervisor, Prescott National Forest, 735 N. Highway 89, Chino Valley, AZ 86323, telephone (928) 443-8213, email sarah.clawson@usda.gov.

SUPPLEMENTARY INFORMATION: This notice is published as part of the National Park Service's administrative responsibilities under NAGPRA. The determinations in this notice are the sole responsibility of the Prescott National Forest, and additional information on the human remains in this notice, including the results of consultation, can be found in the related records. The National Park Service is not responsible for the identifications in this notice.

Abstract of Information Available

Based on the information available, human remains representing, at least, one individual have been reasonably identified. No associated funerary objects are present. Human remains of one individual were discovered and removed from the Strickland Wash area (Chino Valley Ranger District, Yavapai County, Arizona) and turned into the Prescott National Forest on August 31, 2017. PNF Staff traveled to the discovery location and recorded this location as a new site, AR-03-09-01-1533. No other human remains were located. AR-03-09-01-1533 is a Prescott Culture site located on a terrace above Strickland Wash. The site contains a rock feature, a depression, and a dense artifact scatter of lithics, ceramics, and ground stone fragments. The human remains are currently secured in a safe location away from public view at the Sharlot Hall Museum, Prescott, Arizona.

Determinations

The Prescott National Forest has determined that:

• The human remains described in this notice represent the physical remains of one individuals of Native American ancestry.

• The Hopi Tribe of Arizona; Hualapai Indian Tribe of the Hualapai Indian Reservation, Arizona; Yavapai-Apache Nation of the Camp Verde Indian Reservation, Arizona; Yavapai-Prescott Indian Tribe; and the Zuni Tribe of the Zune Reservation, New Mexico have priority for disposition of the human remains described in this notice.

Claims for Disposition

Written claims for disposition of the human remains in this notice must be sent to the appropriate official identified in this notice under ADDRESSES. If no claim for disposition is received by January 20, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after February 18, 2025. If competing claims for disposition are received, the Prescott National Forest must determine the most appropriate claimant prior to disposition. Requests for joint disposition of the human remains are considered a single request and not competing requests. The Prescott National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 13, 2025.
Melanie O'Brien,
Manager, National NAGPRA Program.

[FR Doc. 2025-01175 Filed 1-16-25; 8:45 am]

BILLING CODE 4312-52-P